DEPARTMENT OF COMMERCE

Foreign-Trade Zones Board

[Docket T-1-2009]

Foreign-Trade Zone 134—Chattanooga, TN; Application for Temporary/Interim Manufacturing Authority; Termination of Review; Volkswagen Group of America Chattanooga Operations, LLC (Motor Vehicles)

Notice is hereby given that the Foreign-Trade Zones (FTZ) Board staff has terminated its review of the application requesting temporary/interim manufacturing (T/IM) authority withm FTZ 134 at the Volkswagen Group of America Chattanooga Operations, LLC (VGACO) facility in Chattanooga, Tennessee. The application was filed on July 10, 2009 (74 FR 34714, 7-17-2009). Substantive comments submitted in opposition to the VGACO application during the public comment period remove the application from eligibility under the specific T/IM standard of “clearly presenting no new, complex, or controversial issues” (see “Proposals to Facilitate the Use of Foreign-Trade Zones by Small and Medium-Sized Manufacturers,” 69 FR 17643, 4/5/2004). The review was terminated on September 22, 2009.

Dated: September 24, 2009.
Pierre V. Duy,
Acting Executive Secretary.

[FR Doc. E9-23693 Filed 10-5-09; 8:45 am]

BILLING CODE 3510-DS-M